DEPARTMENT OF STATE

[Public Notice 11544]

Cultural Property Advisory Committee; Additional Meeting Agenda Item

AGENCY: Department of State.

ACTION: Notice.

SUMMARY: The Department of State is issuing this Notice to add an agenda item for the next meeting of the Cultural Property Advisory Committee, which will be held on October 5, 6, and 8, 2021.

DATES: Dates and Times:

Meeting: The Cultural Property Advisory Committee (CPAC) will meet October 5, 6, and 8, 2021, 10:00 a.m. to 5:00 p.m. (EDT) via videoconference. CPAC will hold an open session on October 5, 2021, at 2:00 p.m. (EDT), which will last approximately one hour.

Comments: The Committee will review your written comment if it is received by September 26, 2021, at 11:59 p.m. (EDT). For further instructions on submission of comments and participation, please see the previous Notice at 86 FR 50930.

FOR FURTHER INFORMATION CONTACT: For general questions concerning the meeting, contact Allison Davis, Bureau of Educational and Cultural Affairs—Cultural Heritage Center, by phone (202-702-1166) or email (culprop@state.gov).

SUPPLEMENTARY INFORMATION: The October 5, 6, and 8, 2021, meeting of the Cultural Property Advisory Committee was announced in 86 FR 50930. This Notice adds an additional agenda item for that meeting.

In accordance with the Convention on Cultural Property Implementation Act (19 U.S.C. § 2601-2613) (“the Act”), the Assistant Secretary of State for Educational and Cultural Affairs calls a meeting of the Cultural Property Advisory Committee (“the Committee”) (19 U.S.C. 2605(e)(2)). The Act describes the Committee's responsibilities. A portion of this meeting will be closed to the public pursuant to 5 U.S.C. 552b(c)(9)(B) and 19 U.S.C. 2605(h).

Addition to Meeting Agenda: The Committee will review a request from the former Government of the Islamic Republic of Afghanistan. As previously announced in the Notice referenced above, the Committee also will review proposed extensions of cultural property agreements with the Government of the Republic of Cyprus and the Government of the Republic of Peru.

Open Session Participation: The Committee will hold an open session of the meeting to receive oral public comments on Tuesday, October 5, 2021, from 2:00 p.m. to approximately 3:00 p.m. (EDT). We have provided specific instructions on how to participate or observe the open session at http://culturalheritage.state.gov. Further information about this meeting, and how to participate, are included in the previous Notice at 86 FR 50930. When contacting the Cultural Heritage Center via email regarding this matter, include “Afghanistan” in the subject line.

Allison Davis,
Executive Director CPAC, Bureau of Educational and Cultural Affairs, Department of State.

[FR Doc. 2021-20339 Filed 9-20-21; 8:45 am]

BILLING CODE 4710-05-P